DEPARTMENT OF JUSTICE

Bureau of Justice Assistance

[OJP(BJA)-1296]

Notice of Availability of the Finding of No Significant Impact and the Environmental Assessment for BJA's Methamphetamine Law Enforcement Program

AGENCY: Office of Justice Programs, Bureau of Justice Assistance (BJA), Justice.

ACTION: Notice of availability of FONSI and EA.

SUMMARY: The Environmental Assessment, which is available to the public, concludes that the methamphetamine investigation and clandestine laboratory closure activities of the Methamphetamine/Drug Hot Spots Program will not have a significant impact on the quality of the human environment.

FOR FURTHER INFORMATION CONTACT: For copies of the Environmental Assessment, please contact: Pat Kim, BJA Environmental Coordinator, Bureau of Justice Assistance, 810 7th Street, NW., Room 7252, Washington, DC 20531; Phone: (202) 514-9677; E-mail: kimi@ojp.usdoj.gov. Copies of the Environmental Assessment are also available on BJA's Website at www.ojp.usdoj.gov/bja/methenviron.htm.

SUPPLEMENTARY INFORMATION:

Program Description

The Bureau of Justice Assistance (BJA), 42 U.S.C. 3741, as required by the Council on Environmental Quality's regulations, 40 CFR parts 1500 through 1508, has prepared an Environmental Assessment for methamphetamine law enforcement programs, and with specific application for the Methamphetamine/Drug Hot Spots Program. The Methamphetamine/Drug Hot Spots Program addresses a broad array of law enforcement initiatives pertaining to the investigation of methamphetamine trafficking in many heavily impacted areas of the country. For the purposes of this program, law enforcement may include training of law enforcement officers in methamphetamine-related issues; collection and maintenance of intelligence and information relative to methamphetamine trafficking and traffickers; investigation, arrest and prosecution of producers, traffickers and users of methamphetamine; interdiction and removal of laboratories, finished products, and precursor chemicals and other elements necessary to produce methamphetamine; and preventive efforts to reduce the spread and use of methamphetamine. Individual projects will reflect a concentration on program areas consistent with the Congressional appropriations language.

Among the many challenges faced by law enforcement agencies in the Methamphetamine/Drug Hot Spots Program, will be discovery, interdiction, and dismantling of clandestine drug laboratories. These lab sites, as well as other methamphetamine crime venues must be comprehensively dealt with in compliance with a variety of health, safety and environmental regulations. The Bureau of Justice Assistance anticipates that law enforcement efforts funded under this program, when encountering illegal drug laboratories, will use grant funds to effect the proper removal and disposal of hazardous materials located at those laboratories and directly associated sites. Where grant funds are not used to effect clean-up of hazardous waste sites, grantees must document in their applications how they will remediate clandestine drug laboratories that are seized as a result of grant-related activities.

Environmental Assessment

BJA will award 16 grants to State and local criminal justice agencies consistent with congressional earmarks for the FY 2000 COPS Methamphetamine/Drug Hot Spots Program. The Environmental Assessment concludes that the funding of this program will not have a significant impact on the quality of the human environment. Therefore, an Environmental Impact Statement will not be prepared for the funding of this program.

Nancy E. Gist,
Director, Bureau of Justice Assistance.

[FR Doc. 00-27839 Filed 10-30-00; 8:45 am]

BILLING CODE 4410-18-P